DEPARTMENT OF THE INTERIOR

Bureau of Land Management

[OR-930-6350-DQ-047H]

Notice of Extension of Comment Period for the Draft Environmental Impact Statement for the Revision of Resource Management Plans of the Western Oregon Bureau of Land Management Districts

AGENCY: Bureau of Land Management, Interior.

ACTION: Notice of extension.

SUMMARY: The Bureau of Land Management (BLM) announces an extension of the comment period on the Draft Environmental Impact Statement for the Revision of Resource Management Plans of the Western Oregon Bureau of Land Management Districts. The original notice published in the Federal Register on August 10, 2007 [72 FR 45062] and provided for a comment period to end on November 9, 2007. The BLM is extending the comment period to January 11, 2008.

FOR FURTHER INFORMATION CONTACT: Alan Hoffmeister, Western Oregon Plan Revisions Public Outreach Coordinator, at (503) 808-6629.

SUPPLEMENTARY INFORMATION: The original Notice of Availability provided for comments on the Draft IAP/EIS to be received through November 9, 2007. The BLM received requests for an extension of the comment period from individuals and groups. The BLM has decided to accede to these requests. Comments on the Draft Resource Management Plan and Environmental Impact Statement will now be accepted through January 11, 2008.

Dated: November 20, 2007.
Edward W. Shepard,
State Director, OR/WA, USDI Bureau of Land Management.

[FR Doc. E7-23743 Filed 12-5-07; 8:45 am]

BILLING CODE 4310-33-P